DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Gulf of Mexico Electronic Logbook.

OMB Control Number: 0648-0543.

Form Number(s): None.

Type of Request: Regular (extension of a currently approved information collection).

Number of Respondents: 1,410.

Average Hours per Response: 3.

Burden Hours: 4,230.

Needs and Uses: The Magnuson-Stevens Fishery Conservation and Management Act authorizes the Gulf of Mexico Fishery Management Council (Council) to prepare and amend fishery management plans for any fishery in waters under its jurisdiction. The National Marine Fisheries Service (NMFS) manages the commercial shrimp fishery in Federal waters of the Gulf of Mexico (Gulf) under the Fishery Management Plan for the Shrimp Fishery of the Gulf.

The electronic logbook (ELB) regulations for the Gulf shrimp fishery may be found at 50 CFR 622.51(a)(2). These regulations require vessel owners or operators issued a Federal commercial permit for Gulf shrimp to participate in the NMFS-sponsored ELB reporting program. There are approximately 1,410 valid or renewable Federal permits to commercially harvest shrimp from Federal waters in the Gulf. Reporting through a vessel's ELB, such owners or operators must provide information regarding the size and number of shrimp trawls deployed, the type of bycatch reduction device, and turtle excluder device used for each trip. The ELB unit automatically collects fishing effort data and transmits those data via a cellular phone connection activated when the vessel is within non-roaming cellular range. Compliance with the ELB reporting requirements is required to renew the Gulf shrimp permit.

Monitoring shrimp vessels is challenging for NMFS when they operate together with many other fishing vessels of differing sizes, gears types, and fishing capabilities. Monitoring is made even more challenging by seasonal variability in shrimp abundance and price and the broad geographic distribution of the fleet. ELBs provide a precise means of estimating the amount of shrimp fishing effort. Using ELBs to estimate fishing effort serves an important role to help estimate bycatch in the Gulf shrimp fleet.

Affected Public: Businesses or other for-profit organizations.

Frequency: On occasion when fishing.

Respondent's Obligation: Mandatory.

This information collection request may be viewed at reginfo.gov. Follow the instructions to view Department of Commerce collections currently under review by OMB.

Written comments and recommendations for the proposed information collection should be sent within 30 days of this notice publication by email to OIRA_Submission@omb.eop.gov or by fax to (202) 395-5806.

Sheleen Dumas,
Department PRA Clearance Officer, Office of the Chief Information Officer, Commerce Department.

[FR Doc. 2019-27739 Filed 12-23-19; 8:45 am]

BILLING CODE 3510-22-P